DEPARTMENT OF JUSTICE

Drug Enforcement Administration

Manufacturer of Controlled Substances; Notice of Application

Pursuant to § 1301.33(a), Title 21 of the Code of Federal Regulations (CFR), this is notice that on April 1, 2011, Archimica, Inc., 2460 W. Bennett Street, Springfield, Missouri 65807-1229, made application by renewal to the Drug Enforcement Administration (DEA) to be registered as a bulk manufacturer of the following basic classes of controlled substances:

Drug | Schedule
Gamma Hydroxybutyric Acid (2010) | I
Amphetamine (1100) | II
Lisdexamfetamine (1205) | II
Methylphenidate (1724) | II
Phenylacetone (8501) | II
Hydrocodone (9193) | II
Methadone Intermediate (9254) | II
Tapentadol (9780) | II

The company plans to manufacture the listed controlled substances in bulk for distribution and sale to its customers for Amphetamine (1100).

The company plans to acquire the listed controlled substance in bulk from a domestic source in order to manufacture other controlled substances in bulk for distribution to its customers.

Any other such applicant, and any person who is presently registered with DEA to manufacture such substances, may file comments or objections to the issuance of the proposed registration pursuant to 21 CFR 1301.33(a).

Any such comments or objections should be addressed, in quintuplicate, to the Drug Enforcement Administration, Office of Diversion Control, Federal Register Representative (ODL), 8701 Morrissette Drive, Springfield, Virginia 22152; and must be filed no later than August 15, 2011.

Dated: June 7, 2011.
Joseph T. Rannazzisi,
Deputy Assistant Administrator, Office of Diversion Control, Drug Enforcement Administration.

[FR Doc. 2011-14968 Filed 6-15-11; 8:45 am]

BILLING CODE 4410-09-P